DEPARTMENT OF THE INTERIOR

Bureau of Indian Affairs

[156A2100DD/AAKC001030/A0A501010.999900 253G]

Amendment to the Notice of Availability of the Osage County Oil and Gas Draft Environmental Impact Statement for Management of Osage Nation Oil and Gas Resources, Osage County, Oklahoma

AGENCY: Bureau of Indian Affairs, Interior.

ACTION: Amendment to notice of availability.

SUMMARY: The Bureau of Indian Affairs Eastern Oklahoma Region has prepared a draft environmental impact statement for the management of oil and gas resources owned by the United States in trust for the Osage in Osage County, Oklahoma. This notice amends the notice of availability published in the Federal Register on Friday, November 6, 2015 (80 FR 68867), and extends the public comment period through January 15, 2016, to accommodate requests for more time.

DATES: Written comments must be received no later than January 15, 2016.

ADDRESSES: You may mail, email, hand deliver, or fax written comments to Ms. Jeannine Hale, BIA Eastern Oklahoma Regional Office, P.O. Box 8002, Muskogee, OK 74402-8002; fax (918) 781-4667; email: osagecountyoilgaseis@bia.gov. The DEIS will be available for review at 813 Grandview, Pawhuska, OK 74820. It is also available online at http://www.bia.gov/WhoWeAre/RegionalOffices/EasternOklahoma/WeAre/Osage/OSAGEOilGasEIS.

FOR FURTHER INFORMATION CONTACT: Ms. Jeannine Hale, Division of Environmental and Cultural Resources, BIA Eastern Oklahoma Regional Office, P.O. Box 8002, Muskogee, OK 74402-8002, (918) 781-4660.

SUPPLEMENTARY INFORMATION: The proposed action for this EIS is to update and provide additional analysis on the impacts of the BIA lease and permit approval program to facilitate the development of oil and gas in Osage County in an efficient manner that prevents pollution.

Directions for Submitting Comments: Please include your name, return address, and the caption “DEIS Comments, Osage County Oil and Gas EIS” on the first page of your written comments.

Public Comment Availability: Written comments, including names and addresses of respondents, will be available for public review at the BIA, 813 Grandview, Pawhuska, Oklahoma, during regular business hours, 8 a.m. to 4:30 p.m., Monday through Friday, except holidays. Before including your address, telephone number, email address, or other personal identifying information in your comment, you should be aware that your entire comment—including your personal identifying information—may be made publicly available at any time. While you can ask us in your comment to withhold your personal identifying information from public review, we cannot guarantee that we will be able to do so.

Authority: This notice is published in accordance with Section 1503.1 of the Council on Environmental Quality regulations (40 CFR part 1500 et seq.) and the Department of the Interior Regulations (43 CFR part 46) implementing the procedural requirements of the National Environmental Policy Act (42 U.S.C. 4321 et seq.), and in accordance with the authority delegated to the Assistant Secretary—Indian Affairs in Part 209 of the Departmental Manual.

Dated: December 21, 2015.
Lawrence S. Roberts,
Principal Deputy Assistant Secretary—Indian Affairs.

[FR Doc. 2015-32505 Filed 12-23-15; 8:45 am]

BILLING CODE 4337-15-P